DEPARTMENT OF ENERGY

Federal Energy Regulatory Commission

[Docket No. PR09-18-000]

New Mexico Gas Company, Inc.; Notice of Filing

March 18, 2009.

Take notice that on March 2, 2009, New Mexico Gas Company, Inc. (NMGC) filed pursuant to section 284.123(e) of the Commission's regulations, a Statement of Operating Conditions (SOC). NMGC states that Ordering Paragraph G of the Commission's August 28, 2008 order issuing limited certificates to NMGC required NMGC to file its SOC within 30 days of commencement of service. 124 FERC ¶ 61,194 (2008). NMGC states it notified the Commission that service commenced as of January 30, 2009.

Any person desiring to participate in this rate proceeding must file a motion to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time Monday, March 30, 2009.

Kimberly D. Bose,
Secretary.

[FR Doc. E9-6492 Filed 3-24-09; 8:45 am]

BILLING CODE